DEPARTMENT OF TRANSPORTATION

Federal Railroad Administration

[Docket Number FRA-2011-0052]

Petition for Extension of Waiver of Compliance

Under part 211 of title 49 Code of Federal Regulations (CFR), this document provides the public notice that on July 29, 2022, Norfolk Southern Corporation (NS) petitioned the Federal Railroad Administration (FRA) for an extension of a waiver of compliance from certain provisions of the Federal railroad safety regulations contained at 49 CFR part 236 (Rules, Standards, and Instructions Governing the Installation, Inspection, Maintenance, and Repair of Signal and Train Control Systems, Devices, and Appliances). The relevant FRA Docket Number is FRA-2011-0052.

Specifically, NS requests a waiver extension from § 236.566, Locomotive of each train operating in train stop, train control or cab signal territory; equipped, in four locations in the Keystone Division of Pennsylvania: (1) control point (CP) Cannon at mile post (MP) PT 118.9 to CP Harrisburg at MP PT 105.1 on the Pittsburgh Line; (2) CP Cannon MP PT 118.9 to CP Solomon at MP PT 352.5, on the Pittsburgh Line; (3) CP Rochester at MP PC 29.5 to CP Alliance at MP PC 83.2, on the Fort Wayne Line; and (4) CP Conpit at MP LC 0.00 to CP Penn at MP LC 77.8, on the Conemaugh Line. In these locations, NS seeks to continue to operate non-equipped engines used in switching and transfer service, with or without cars; work trains; wreck trains; ballast cleaners to and from work; and engines and rail diesel cars moving to and from shops. NS explains that an absolute block would be established in advance of each non-equipped movement. NS states that no incidents associated with the relief have been observed.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by January 3, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2022-23971 Filed 11-2-22; 8:45 am]

BILLING CODE 4910-06-P